DEPARTMENT OF ENERGY

Federal Energy Regulatory Commission

[Docket No. CP01-1-000]

Colorado Interstate Gas Company; Notice of Intent To Prepare an Environmental Assessment for the Proposed Fort Morgan Storage Field Expansion Project and Request for Comments on Environmental Issues

November 20, 2000.

The staff of the Federal Energy Regulatory Commission (FERC or Commission) will prepare an environmental assessment (EA) that will discuss the environmental impacts of the Fort Morgan Storage Field Project involving construction and operation of facilities by Colorado Interstate Gas Company (CIG) in Weld, Adams and Morgan Counties, Colorado and Morton County Kansas.¹ These facilities would consist of about 53.2 miles of 24 inch-diameter pipeline and 2,825 horsepower (hp) of compression. This EA will be used by the Commission in its decision-making process to determine whether the project is in the public convenience and necessity.

¹ CIG's application was filed with the Commission under Section 7 of the Natural Gas Act and Part 157 of the Commission's regulations.

If you are a landowner receiving this notice, you may be contacted by a pipeline company representative about the acquisition of an easement to construct, operate, and maintain the proposed facilities. The pipeline company would seek to negotiate a mutually acceptable agreement. However, if the project is approved by the Commission, that approval conveys with it the right of eminent domain. Therefore, if easement negotiations fail to produce an agreement, the pipeline company could initiate condemnation proceedings in accordance with state law.

A fact sheet prepared by the FERC entitled “An Interstate Natural Gas Facility On My Land? What Do I Need To Know?” was attached to the project notice CIG provided to landowners. This fact sheet addresses a number of typically asked questions, including the use of eminent domain and how to participate in the Commission's proceedings. It is available for viewing on the FERC Internet website (www.ferc.fed.us).

Summary of the Proposed Project

CIG proposes to construct, operate, and abandon facilities in Colorado and Kansas to increase the maximum daily storage withdrawal quantity and increase capacity on its transmission system. CIG seeks authority to:

• Drill one injection well/withdrawal well and convert one observation well to a salt water disposal well at the Fort Morgan Storage Field and upgrade two segments of the Fort Morgan Storage Field gathering system from an MAOP of 1,800 and 2,000 to an MAOP of 2,160 psig;

• Increase Fort Morgan Storage Field allowed maximum storage gas in place from 14,322 MMcf to 14,858 MMcf, and increase the average shut-in reservoir bottom hole pressure to a maximum of 2,390 psia;

• Add 4 injection/withdrawal wells and convert 8 injection/withdrawal wells to observation wells at the Boehm Storage Field;

• Install a 600 horsepower compressor along with hydrogen sulfide treatment and appurtenant facilities at the Boehm Storage Field to remove Keyes Sands Reservoir base gas. The compressor would be used until the pressure in the Keyes Sand Reservoir is too low to be effectively utilized. CIG would then abandon the compressor and the Keyes Sands Reservoir;

• Construct 26.2 miles of 24-inch-diameter pipeline loop adjacent to CIG's existing pipeline which would run between CIG's existing Cheyenne Compressor Station and Ault Meter Station in Weld County, Colorado;

• Construct new Fort Lupton Compressor Station consisting of three natural gas-fired reciprocating engines each rated at 2,225 horsepower and appurtenant facilities in Weld County, Colorado;

• Construct 27 miles of 24-inch-diameter pipeline loop and appurtenant facilities from CIG's proposed Fort Lupton Compressor Station in Weld County, Colorado to CIG's existing Watkins Compressor Station in Adams County, Colorado; and

• Install miscellaneous facilities within the Watkins Compressor Station that include yard piping, pipe valves, fittings, controls and regulation and measurement equipment.

CIG states that these facilities would increase its storage pool deliverability from 775 MMcf to 877 MMcf per day and increase capacity from the Cheyenne Compressor Station.

The general location of the project facilities is shown in appendix 1.

Land Requirements for Construction

Construction of CIG's proposed facilities would require about 780 acres of land. Following construction, about 413 acres would remain as permanent right-of-way. The remaining 367 acres of land would be restored and allowed to revert to its former use.

The nominal construction right-of-way for the Ault to Cheyenne Loop (5C North) would be 85 feet wide, with 50 feet retained as permanent right-of-way. About 75.5 percent of the route of the loop would abut or overlap existing easements. The loop would deviate away from existing rights-of-way in multiple segments, totaling 6.44 miles, because of the Pawnee National Grassland Center or to avoid existing facilities.

The nominal construction right-of-way for the Watkins to Fort Lupton Loop (5C South) would be 85 feet wide (75 feet through wetland areas), with 50 feet retained as permanent right-of-way. About 97.8 percent of the route of the loop would abut or overlap existing easements. The loop would deviate away from existing rights-of-way in multiple segments, totaling 0.69 miles, because of archaeological sites, or to avoid existing facilities.

Construction of the new Fort Lupton Compressor Station would disturb about 11 acres, of which 10 acres would be required for operation of the facility and 1 acre for the access road. The proposed Boehm Storage Field Enhancement would consist of a 400 square foot dehydration plant which would affect approximately 6.7 acres within the Cimarron National Grassland with 3.67 acres required for the facility. Additional minor land disturbances would be associated with pig launching facilities and valves. These disturbances would be limited to existing meter stations, compressor stations, or within the proposed permanent right-of-way.

The EA Process

The National Environmental Policy Act (NEPA) requires the Commission to take into account the environmental impacts that could result from an action whenever it considers the issuance of a Certificate of Public Convenience and Necessity. NEPA also requires us ² to discover and address concerns the public may have about proposals. We call this “scoping”. The main goal of the scoping process is to focus the analysis in the EA on the important environmental issues. By this Notice of Intent, the Commission requests public comments on the scope of the issues it will address in the EA. All comments received are considered during the preparation of the EA. State and local government representatives are encouraged to notify their constituents of this proposed action and encourage them to comment on their areas of concern.

² “We”, “us”, and “our” refer to the environmental staff of the Office of Energy Projects (OEP).

The EA will discuss impacts that could occur as a result of the construction and operation of the proposed project under these general headings:

• Geology and soils;

• Water resources, fisheries, and wetlands;

• Vegetation and wildlife;

• Endangered and threatened species;

• Public safety;

• Land use;

• Cultural resources;

• Air quality and noise;

• Hazardous waste.

We will also evaluate possible alternatives to the proposed project or portions of the project, and make recommendations on how to lessen or avoid impacts on the various resource areas.

Our independent analysis of the issues will be in the EA. Depending on the comments received during the scoping process, the EA may be published and mailed to Federal, state, and local agencies, public interest groups, interested individuals, affected landowners, newspapers, libraries, and the Commission's official service list for this proceeding. A comment period will be allotted for review if the EA is published. We will consider all comments on the EA before we make our recommendations to the Commission.

To ensure your comments are considered, please carefully follow the instructions in the public participation section beginning on page 6.

Currently Identified Environmental Issues

We have already identified several issues that we think deserve attention based on a preliminary review of the proposed facilities and the environmental information provided by CIG. This preliminary list of issues may be changed based on your comments and our analysis.

• Geology and Soils

—Shallow topsoil depth

—Erosion prone soils

• Water Resources and Wetlands

—Crossing 5 perennial and 3 intermittent streams

—Crossing 13 wetlands

• Threatened and Endangered Species

—Potential impacts on 6 federally listed species, including the Bald eagle, Preble's meadow jumping mouse, Ute ladies'-tresses, Whooping crane, Least tern, and Piping plover

• Land Use

—Impacts on about 9 miles of public lands

—Impacts on about 25 miles of rangeland

—Impacts on about 23 miles of agricultural land

• Air and Noise Quality

—Impacts on local air quality and noise environment as a result of the new Fort Lupton Compressor Station

Public Participation

You can make a difference by providing us with your specific comments or concerns about the project. By becoming a commentor, your concerns will be addressed in the EA and considered by the Commission. You should focus on the potential environmental effects of the proposal, alternatives to the proposal and measures to avoid or lessen environmental impact. The more specific your comments, the more useful they will be. Please carefully follow these instructions to ensure that your comments are received in time and properly recorded:

• Send an original and two copies of your letter to: David P. Boergers, Secretary, Federal Energy Regulatory Commission, 888 First St., NE., Room 1A, Washington, DC 20426.

• Label one copy of the comments for the attention of Gas/Hydro Group PJ-11.3.

• Reference Docket No. CP01-001-000.

• Mail your comments so that they will be received in Washington, DC on or before December 21, 2000. Comments and protests may be filed electronically via the internet in lieu of paper. See, 18 CFR 385.2001(a)(1)(iii) and the instructions on the Commission's web site at http://www.ferc.fed.us/efi/doorbell.htm.

Becoming an Intervenor

In addition to involvement in the EA scoping process, you may want to become an official party to the proceeding known as an “intervenor”. Intervenors play a more formal role in the process. Among other things, intervenors have the right to receive copies of case-related Commission documents and filings by other intervenors. Likewise, each intervenor must provide 14 copies of its filings to the Secretary of the Commission and must send a copy of its filings to all other parties on the Commission's service list for this proceeding. If you want to become an intervenor you must file a motion to intervene according to Rule 214 of the Commission's Rules of Practice and Procedure (18 CFR 385.214) (see appendix 2). Only intervenors have the right to seek rehearing of the Commission's decision.

Affected landowners and parties with environmental concerns may be granted intervenor status upon showing good cause by starting that they have a clear and direct interest in this proceeding which would not be adequately represented by any other parties. You do not need intervenor status to have your environmental comments considered.

Additional information about the proposed project is available from the Commission's Office of External Affairs at (202) 208-0004 or on the FERC website (www.ferc.fed.us) using the “RIMS” link to information in this docket number. Click on the “RIMS” link, select “Docket #” from the RIMS Menu, and follow the instructions. For assistance with Access to RIMS, the RIMS helpline can be reached at (202) 208-2222.

Similarly, the “CIPS” link on the FERC Internet website provides access to the texts of formal documents issued by the Commission, such as orders, notices, and rulemakings. From the FERC Internet website, click on the “CIPS” link, select “Docket #” from the CIPS menu, and follow the instructions. For assistance with access to CIPS, the CIPS helpline can be reached at (202) 208-2474.

David P. Boergers,
Secretary.

[FR Doc. 00-30068 Filed 11-24-00; 8:45 am]

BILLING CODE 6717-01-M